DEPARTMENT OF COMMERCE

International Trade Administration

[C-428-812]

Certain Hot-Rolled Lead and Bismuth Carbon Steel Products From Germany: Rescission of Countervailing Duty Administrative Review and Initiation and Preliminary Results of Changed Circumstances Review and Intent To Revoke Order

AGENCY: Import Administration, International Trade Administration, Department of Commerce.

ACTION: Notice of rescission of countervailing duty administrative review and initiation and preliminary results of changed circumstances review and intent to revoke order.

SUMMARY: In response to a request from Ispat Inland Inc. (Ispat) and Republic Technologies International (RTI) (the successors to the petitioners in this proceeding) and from domestic producer Birmingham Steel Corporation (BSC) (collectively, the domestic producers), the Department of Commerce (the Department) is rescinding the current administrative review of the countervailing duty order on certain hot-rolled lead and bismuth carbon steel products from Germany. This administrative review covers the period January 1, 1998, through December 31, 1998. In addition, in response to a request from the domestic producers, we are initiating a changed circumstances review and issuing this notice of intent to revoke the countervailing duty order on certain hot-rolled lead and bismuth carbon steel products from Germany. The domestic producers requested that the Department revoke the order retroactive to January 1, 1998, because they no longer have an interest in maintaining the order.

EFFECTIVE DATE: January 18, 2000.

FOR FURTHER INFORMATION CONTACT: Robert Copyak or Richard Herring, AD/CVD Enforcement Office VI, Import Administration, International Trade Administration, U.S. Department of Commerce, 14th Street and Constitution Avenue, N.W., Washington, DC 20230; telephone (202) 482-2613 or (202) 482-1503, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations codified at 19 CFR Part 351 (April 1999).

Background

On November 24, 1999, the domestic producers requested that the Department conduct a changed circumstances review to revoke the countervailing duty order on certain hot-rolled lead and bismuth carbon steel products from Germany retroactive to January 1, 1998. The domestic producers stated that circumstances have changed such that they no longer have an interest in maintaining the countervailing duty order. They also stated that they represent approximately 85 to 90 percent of the domestic production of the domestic like product to which the order pertains. The domestic producers also requested that, due to the pendency of the ongoing administrative review of the order, the Department complete the changed circumstances review on an expedited basis. On January 5, 2000, the domestic producers submitted a letter withdrawing their request for the administrative review of the period January 1, 1998, through December 31, 1998.

Scope of Review

The products covered are hot-rolled bars and rods of nonalloy or other alloy steel, whether or not descaled, containing by weight 0.03 percent or more of lead or 0.05 percent or more of bismuth, in coils or cut lengths, and in numerous shapes and sizes. Excluded from the scope are other alloy steels (as defined by the Harmonized Tariff Schedule of the United States (HTSUS) Chapter 72, note 1 (f)), except steels classified as other alloy steels by reasons of containing by weight 0.4 percent or more of lead, or 0.1 percent or more of bismuth, tellurium, or selenium. Also excluded are semi-finished steels and flat-rolled products. Most of the products covered in this review are provided for under subheadings 7213.20.00.00 and 7214.30.00.00 of the HTSUS. Small quantities of these products may also enter the United States under the following HTSUS subheadings: 7213.31.30.00; 7213.31.60.00; 7213.39.00.30; 7213.39.00.60; 7213.39.00.90; 7213.91.30.00; 7213.91.45.00; 7213.91.60.00; 7213.99.00; 7214.40.00.10; 7214.40.00.30; 7214.40.00.50; 7214.50.00.10; 7214.50.00.30; 7214.50.00.50; 7214.60.00.10; 7214.60.00.30; 7214.60.00.50; 7214.91.00; 7214.99.00; 7228.30.80.00; and 7228.30.80.50. HTSUS subheadings are provided for convenience and Customs purposes. The written description of the scope of this proceeding is dispositive.

Rescission of Administrative Review

On January 5, 2000, the domestic producers submitted a letter withdrawing their request for the administrative review of the period January 1, 1998, through December 31, 1998. Given the domestic producers' request for a changed circumstances review and their statement of no further interest in the order retroactive to January 1, 1998, we have determined that it is reasonable to rescind this administrative review. Therefore, in accordance with 19 CFR 351.213(d)(1), we are rescinding this administrative review.

Initiation and Preliminary Results of Changed Circumstances Review and Intent to Revoke Order

Pursuant to section 751(d)(1) of the Act, the Department may revoke, in whole or in part, a countervailing duty order based on a review under section 751(b) of the Act (i.e., a changed circumstances review). Section 751(b)(1) of the Act requires a changed circumstances review to be conducted upon receipt of a request containing sufficient information concerning changed circumstances.

The Department's regulations at 19 CFR 351.216(d) require the Department to conduct a changed circumstances review in accordance with 19 CFR 351.221 if it decides that changed circumstances sufficient to warrant a review exist. Section 782(h) of the Act and 19 CFR 351.222(g)(1)(i) provide further that the Department may revoke an order, in whole or in part, if it concludes that the order under review is no longer of interest to producers accounting for substantially all of the production of the domestic like product. In addition, in the event that the Department concludes that expedited action is warranted, 19 CFR 351.221(c)(3)(ii) permits the Department to combine the notices of initiation and preliminary results.

Ispat, RTI, and BSC are domestic interested parties as defined by section 771(9)(E) of the Act and 19 CFR 351.102(b). These parties indicated that they represent approximately 85 to 90 percent of the domestic production of the domestic like product to which the order pertains. We preliminarily determine that these parties represent producers accounting for substantially all of the production of the domestic like product. Therefore, based on the affirmative statement by Ispat, RTI, and BSC of no interest in the continued application of the countervailing duty order on certain hot-rolled lead and bismuth carbon steel products from Germany, we are initiating this changed circumstances review. Further, based on the domestic producers' request, we have determined that expedited action is warranted, and we are combining the notices of initiation and preliminary results. We have preliminarily determined that there are changed circumstances sufficient to warrant revocation of the order in whole. Because the statement of no interest dates back to January 1, 1998, we also are hereby notifying the public of our intent to revoke in whole the countervailing duty order on certain hot-rolled lead and bismuth carbon steel products from Germany retroactive to January 1, 1998.

If final revocation of the order occurs, we intend to instruct the Customs Service to end the suspension of liquidation and to refund any estimated countervailing duties collected for all unliquidated entries of certain hot-rolled lead and bismuth carbon steel products from Germany on or after January 1, 1998, in accordance with 19 CFR 351.222(g)(4). We will also instruct the Customs Service to pay interest on such refunds in accordance with section 778 of the Act. The current requirement for a cash deposit of estimated countervailing duties will continue until publication of the final results of this changed circumstances review.

Public Comment

Any interested party may request a hearing within 10 days of publication of this notice. Any hearing, if requested, will be held no later than 28 days after the date of publication of this notice. Written comments from interested parties may be submitted not later than 14 days after the date of publication of this notice. Rebuttal comments to written comments, limited to issues raised in those comments, may be filed not later than 21 days after the date of publication of this notice. All written comments shall be submitted in accordance with 19 CFR 351.303. Persons interested in attending any public hearing (if requested) should contact the Department for the date and time of the hearing. The Department will publish the final results of this changed circumstances review, including the results of its analysis of issues raised in any written comments or at a hearing.

This notice is in accordance with section 751(b)(1) of the Act and 19 CFR 351.216 and 351.222.

Dated: January 7, 2000.
Robert S. LaRussa,
Assistant Secretary for Import Administration.

[FR Doc. 00-1101 Filed 1-14-00; 8:45 am]

BILLING CODE 3510-DS-P